DEPARTMENT OF TRANSPORTATION

Federal Aviation Administration

14 CFR Part 39

[Docket No. FAA-2007-27152; Directorate Identifier 2006-NM-219-AD; Amendment 39-15105; AD 2007-13-01]

RIN 2120-AA64

Airworthiness Directives; McDonnell Douglas Model 717-200 Airplanes

AGENCY: Federal Aviation Administration (FAA), Department of Transportation (DOT).

ACTION: Final rule.

SUMMARY: The FAA is adopting a new airworthiness directive (AD) for certain McDonnell Douglas Model 717-200 airplanes. This AD requires installing a certain junction(s) and changing the wiring of the first officer's pitot static heater system. This AD results from a report of temporary loss of the auto-flight function with displays of suspect or erratic airspeed indications. We are issuing this AD to prevent display of suspect or erratic airspeed indications during heavy rain conditions, which could reduce the ability of the flightcrew to maintain the safe flight and landing of the airplane.

DATES: This AD becomes effective July 25, 2007.

The Director of the Federal Register approved the incorporation by reference of a certain publication listed in the AD as of July 25, 2007.

ADDRESSES: You may examine the AD docket on the Internet at http://dms.dot.gov or in person at the U.S. Department of Transportation, Docket Operations, M-30, West Building Ground Floor, Room W12-140, 1200 New Jersey Avenue SE., Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Daniel Bui, Aerospace Engineer, Systems and Equipment Branch, ANM-130L, FAA, Los Angeles Aircraft Certification Office, 3960 Paramount Boulevard, Lakewood, California 90712-4137; telephone (562) 627-5339; fax (562) 627-5210.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the street address stated in the ADDRESSES section.

Discussion

The FAA issued a notice of proposed rulemaking (NPRM) to amend 14 CFR part 39 to include an AD that would apply to certain McDonnell Douglas Model 717-200 airplanes. That NPRM was published in the Federal Register on February 14, 2007 (72 FR 6973). That NPRM proposed to require installing a certain junction(s) and changing the wiring of the first officer's pitot static heater system.

Comments

We provided the public the opportunity to participate in the development of this AD. We have considered the comments received.

Support for the Proposed Rule

AirTran Airways and the National Transportation Safety Board support the proposed actions as described in the NPRM.

Request To Revise “Relevant Service Information” Section of the NPRM

Boeing requests that we revise the “Relevant Service Information” section of the NPRM to include the following wording: “The service bulletin describes procedures for changing the first officer's pitot heater wiring to separate the first officer's pitot sensor heater ground from the captain's and auxiliary pitot sensor heater grounds. In addition, to meet system independence, the captain, first officer, and auxiliary pitot sensor's heaters are also activated using the air/ground sensing system.” Boeing explains that there are more electrical parts than just the “junction” to re-wire this system. The revision clarifies the subsequent actions in the service bulletin.

We agree that the suggested wording adds clarification. However, since that section of the preamble does not reappear in the final rule, no change to the final rule is necessary.

Request To Revise Paragraph (f) of the NPRM

Boeing also requests that we revise paragraph (f) of the NPRM to delete the reference to only one electrical component. Boeing explains that there are several electrical items (delete wire, add new wire, sockets, junction, etc.) to implement the wiring changes to this system, and that it is only necessary to refer to Boeing Alert Service Bulletin 717-30A0003, Revision 2, dated November 28, 2006, for this information. (We referred to Boeing Alert Service Bulletin 717-30A0003, Revision 2, in the NPRM as the appropriate source of service information for accomplishing the required actions.)

We agree with Boeing that there are several electrical items required to implement the wiring changes specified in paragraph (f) of the NPRM. The paragraph, as stated in the NPRM, did not include all of those items. We also agree that referring only to the service bulletin in that paragraph will ensure that all items are included. Therefore, we have revised paragraph (f) of this AD to state: “Within 24 months after the effective date of this AD, change the wiring for the air data sensor heating system, by accomplishing all the actions specified in the Accomplishment Instructions of Boeing Alert Service Bulletin 717-30A0003, Revision 2, dated November 28, 2006.”

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 155 airplanes of the affected design in the worldwide fleet. This AD affects about 123 airplanes of U.S. registry. The actions take between 4 and 16 work hours per airplane depending on the airplane configuration, at an average labor rate of $80 per work hour. The manufacturer states that it will supply required parts to the operators at no cost. Based on these figures, the estimated cost of the AD for U.S. operators is between $39,360 and $157,440, or between $320 and $1,280 per airplane, depending on the airplane configuration.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-13-01 McDonnell Douglas: Amendment 39-15105. Docket No. FAA-2007-27152; Directorate Identifier 2006-NM-219-AD.

Effective Date

(a) This AD becomes effective July 25, 2007.

Affected ADs

(b) None.

Applicability

(c) This AD applies to McDonnell Douglas Model 717-200 airplanes, certificated in any category; as identified in Boeing Alert Service Bulletin 717-30A0003, Revision 2, dated November 28, 2006.

Unsafe Condition

(d) This AD results from a report of temporary loss of the auto-flight function with displays of suspect or erratic airspeed indications. We are issuing this AD to prevent display of suspect or erratic airspeed indications during heavy rain conditions, which could reduce the ability of the flightcrew to maintain the safe flight and landing of the airplane.

Compliance

(e) You are responsible for having the actions required by this AD performed within the compliance times specified, unless the actions have already been done.

Installation and Wiring Change

(f) Within 24 months after the effective date of this AD, change the wiring for the air data sensor heating system, by accomplishing all the actions specified in the Accomplishment Instructions of Boeing Alert Service Bulletin 717-30A0003, Revision 2, dated November 28, 2006.

(g) Actions done before the effective date of this AD in accordance with Boeing Alert Service Bulletin 717-30A0003, Revision 1, dated March 2, 2006, are acceptable for compliance with the corresponding provisions of paragraph (f) of this AD.

Alternative Methods of Compliance (AMOCs)

(h)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Alert Service Bulletin 717-30A0003, Revision 2, dated November 28, 2006, to perform the actions that are required by this AD, unless the AD specifies otherwise. The Director of the Federal Register approved the incorporation by reference of this document in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on June 8, 2007.
Stephen P. Boyd,
Acting Manager, Transport Airplane Directorate, Aircraft Certification Service.

8

[FR Doc. E7-11673 Filed 6-19-07; 8:45 am]

BILLING CODE 4910-13-P